DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments or modifications.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Sloan (Permit No. 22095); Erin Markin (Permit Nos. 20340-02 and 20528-01); Malcolm Mohead (Permit Nos. 19641-01, 20347-01, and 22671); and Sara Young (Permit Nos. 14327-01 and 16087) at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
14327-01 | 0648-XP18 | National Marine Fisheries Service's Marine Mammal Laboratory, 7600 Sand Point Way, Seattle, WA 98115 (Responsible Party: John Bengston) | 79 FR 51963, September 2, 2014 | March 21, 2019.
16087-02 | 0648-XA292 | National Marine Fisheries Service's Marine Mammal Laboratory, 7600 Sand Point Way, Seattle, WA 98115 (Responsible Party: John Bengston) | 79 FR 64174, October 28, 2014 | March 21, 2019.
19641-01 | 0648-XG517 | Connecticut Department of Energy and Environmental Protection, Marine Fisheries, P.O. Box 719, Old Lyme, CT 06371 (Responsible Party: Tom Savoy) | 83 FR 61375, November 29, 2018 | March 12, 2019.
20340-02 | 0648-XG517 | New York State Department of Environmental Conservation, 205 Belle Mead Road, East Setuaket, NY 11733 (Responsible Party: Kim McKown) | 83 FR 61375, November 29, 2018 | March 12, 2019.
20347-01 | 0648-XG517 | University of Maine, School of Marine Sciences, 5741 Libby Hall, Room 202A, Orono, ME 04469 (Responsible Party: Gayle Zydlewski) | 83 FR 61375, November 29, 2018 | March 12, 2019.
20528-01 | 0648-XG517 | South Carolina Department of Natural Resources, 217 Fort Johnson Road, Charleston, SC 29412 (Responsible Party: Bill Post) | 83 FR 61375, November 29, 2018 | March 12, 2019.
22095 | 0648-XG371 | SeaWorld, LLC., 9205 SouthPark Center Loop, Suite 400, Orlando, FL 32819 (Responsible Party: Christopher Dold, DVM) | 83 FR 54570, October 30, 2018 | March 13, 2019.
22671 | 0648-XG517 | Conte Anadromous Fish Research Laboratory, U.S. Geological Survey, Biological Resources Discipline, 1 Migratory Way, Turners Fall, MA 01376 (Responsible Party: Adria Elskus) | 83 FR 61375, November 29, 2018 | March 12, 2019.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: April 11, 2019.
Amy Sloan,
Acting Chief, Permits and Conservation Division, Office of Protected Resources, National Marine Fisheries Service.

[FR Doc. 2019-07535 Filed 4-15-19; 8:45 am]

BILLING CODE 3510-22-P